DEPARTMENT OF ENERGY

Federal Energy Regulatory Commission

Combined Notice of Filings #1

Take notice that the Commission received the following electric rate filings:

Docket Numbers: ER13-1851-001.

Applicants: ISO New England Inc.

Description: 2013-2014 Emergency Winter Amendments to be effective 9/6/2013.

Filed Date: 8/9/13.

Accession Number: 20130809-5118.

Comments Due: 5 p.m. ET 8/19/13.

Docket Numbers: ER13-1953-001.

Applicants: Midcontinent Independent System Operator, Inc.

Description: 08-08-2013 BREC-KU T-T IA Revised Concurrence to be effective 9/3/2013.

Filed Date: 8/9/13.

Accession Number: 20130809-5000.

Comments Due: 5 p.m. ET 8/30/13.

Docket Numbers: ER13-2134-000.

Applicants: Nevada Power Company.

Description: Rate Schedule No. 136 APS Mead-Phoenix Project Concurrence to be effective 4/22/2013.

Filed Date: 8/8/13.

Accession Number: 20130808-5150.

Comments Due: 5 p.m. ET 8/29/13.

Docket Numbers: ER13-2135-000.

Applicants: Liberty Utilities (CalPeco Electric) LLC.

Description: Notice of Succession to be effective 8/9/2013.

Filed Date: 8/8/13.

Accession Number: 20130808-5170.

Comments Due: 5 p.m. ET 8/29/13.

Docket Numbers: ER13-2136-000.

Applicants: PJM Interconnection, L.L.C.

Description: Compliance filing per FERC Order No. 676-G RM05-5-020 to be effective 5/6/2013.

Filed Date: 8/8/13.

Accession Number: 20130808-5176.

Comments Due: 5 p.m. ET 8/29/13.

Docket Numbers: ER13-2137-000.

Applicants: Westar Energy, Inc.

Description: Midwest Energy Inc., Wholesale Power Sales Service to be effective 10/1/2013.

Filed Date: 8/9/13.

Accession Number: 20130809-5081.

Comments Due: 5 p.m. ET 8/30/13.

Docket Numbers: ER13-2138-000.

Applicants: PJM Interconnection, L.L.C.

Description: Revisions to the PJM Tariff re Interconnection Agmt Execution & Study Deposits to be effective 10/9/2013.

Filed Date: 8/9/13.

Accession Number: 20130809-5084.

Comments Due: 5 p.m. ET 8/30/13.

Docket Numbers: ER13-2139-000.

Applicants: Merline One, LLC.

Description: Application for Initial Tariff to be effective 8/9/2013.

Filed Date: 8/9/13.

Accession Number: 20130809-5134.

Comments Due: 5 p.m. ET 8/30/13.

Docket Numbers: ER13-2140-000.

Applicants: PJM Interconnection, L.L.C.

Description: Revisions to PJM OATT re Must Offer Requirement Exception for Deactivation to be effective 10/15/2013.

Filed Date: 8/9/13.

Accession Number: 20130809-5142.

Comments Due: 5 p.m. ET 8/30/13.

Take notice that the Commission received the following electric reliability filings:

Docket Numbers: RR13-8-000.

Applicants: North American Electric Reliability Corp.

Description: Petition of North American Electric Reliability Corporation for Approval of Amendments to Exhibit B to the Delegation Agreement with Southwest Power Pool, Inc. Amendments to Southwest Power Pool, Inc. Bylaws.

Filed Date: 8/9/13.

Accession Number: 20130809-5152.

Comments Due: 5 p.m. ET 8/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2013.
Nathaniel J. Davis, Sr.,
Deputy Secretary.

[FR Doc. 2013-20132 Filed 8-16-13; 8:45 am]

BILLING CODE 6717-01-P